DEPARTMENT OF TRANSPORTATION

Federal Transit Administration

Preparation of an Environmental Impact Statement on Transit Improvements in the North-South Corridor of Kansas City, MO

AGENCY: Federal Transit Administration, Department of Transportation.

ACTION: Notice of intent to prepare an Environmental Impact Statement (EIS).

SUMMARY: The Federal Transit Administration (FTA) and the Kansas City Area Transportation Authority (KCATA) intend to prepare an Environmental Impact Statement (EIS) in accordance with the National Environmental Policy Act (NEPA) to assess the environmental and community impacts of transit improvements proposed by KCATA and the City of Kansas City, Missouri in a 12-mile North/South travel corridor in the Kansas City metropolitan area. Because KCATA may decide to seek FTA New Starts funding for transit improvements in the corridor, this work will also satisfy the FTA requirement for an Alternatives Analysis through the development of a combined Alternatives Analysis/Draft Environmental Impact Statement (AA/DEIS).

Possible transit improvements in the corridor are intended to improve access to the major employment center located in the central portion of the region, especially for that segment of the population that does not have access to the auto-oriented transportation system. Additionally, new transit facilities would support sustainable development patterns in the corridor. Alternatives proposed to be considered for accomplishing these purposes include (1) The Future No-Build Alternative, (2) a Transportation System Management (TSM) alternative that includes improvements to bus services, and (3) various fixed-guideway transit alternatives, including the light rail transit (LRT) line developed by the Citizens' Light Rail Task Force.

Scoping of the EIS will be accomplished through meetings and correspondence with interested individuals, organizations, Federal, State, and local governmental agencies, and Native American tribes.

DATES: Comment Due Date: Written comments on the scope of the EIS, including the purpose and need for action and the alternatives and impacts to be considered should be sent to Dick Jarrold of KCATA by March 17, 2008. See ADDRESSES below for his address.

Public Scoping Meetings: A Public scoping meeting will be held at the Mohart Community Center at 3200 Wayne, Kansas City, Missouri 64109 on Wednesday, February 27, 2008 from 5 p.m. to 8 p.m. Presentations summarizing the project and the Scoping process will be held at 5:30 p.m. and 7:30 p.m. The scoping meeting site is accessible to mobility-impaired individuals. If you wish to participate and need an interpreter, materials in alternate formats, or other accommodations, please contact Dick Jarrold at KCATA, (816) 346-0200 or djarrold@kcata.org. Please do so at least 48 hours prior to the meeting so that the proper arrangements can be made.

Interagency Coordination: An interagency scoping meeting will be held at 1 p.m. on Wednesday, February 27, 2008 at the KCATA administration building, 1200 East 18th Street, Kansas City, Missouri 64108.

ADDRESSES: Send written comments on the EIS scope to Dick Jarrold, KCATA Project Manager, 1200 E. 18th St., Kansas City, MO 64108.

FOR FURTHER INFORMATION CONTACT: Joan Roeseler, Federal Transit Administration, Region VII at (816) 329-3920 or by e-mail at joan.roeseler@dot.gov.

SUPPLEMENTARY INFORMATION:

I. Scoping

The FTA and KCATA invite all interested individuals, organizations, businesses, and Federal, state, and local agencies to comment on the scope of the EIS, including the project's purpose and need, the alternative transit actions to be considered, and the impacts to be evaluated. During the scoping process, comments should focus on the purpose and need for a project, identifying specific transportation problems to be evaluated, or on proposing transportation alternatives that may be less costly, more effective, and have fewer environmental impacts while improving mobility in the corridor. Scoping information is available in hardcopy by request from Dick Jarrold as indicated above under DATES and on the project Web site at http://www.kcata.org/lightrail.htm.

During the scoping process, KCATA and FTA will extend an invitation to other Federal and non-Federal agencies and Native American tribes that may have an interest in the proposed project to become “participating agencies” in accordance with Section 6002 of the Safe, Accountable, Flexible, Efficient Transportation Equity Act: A Legacy for Users (SAFETEA-LU). Scoping materials will accompany the invitation to become a participating agency or, if appropriate, a cooperating agency. KCATA and FTA may not be able to identify all Federal and non-Federal agencies and Native American tribes that may have an interest in the project. Any Federal or non-Federal agency or Native American tribe interested in the proposed project that does not receive an invitation to become a participating agency prior to February 20, 2008 should notify Dick Jarrold of KCATA at (816) 346-0200 or djarrold@kcata.org.

During the scoping process, KCATA will develop, in accordance with Section 6002 of SAFETEA-LU, a coordination plan that identifies milestones and details the lead agencies' expectations for review and comment by the participating agencies at those milestones. The coordination plan will also detail how the public outreach activities with interested parties or groups will continue throughout the duration of work on the EIS. The coordination plan will be posted on the project Web site, http://www.kcata.org/lightrail.htm, which will be updated periodically to reflect the status of the project and to provide additional project-related materials. Additional opportunities for public participation will also be announced through mailings, notices, and press releases and on the Web site. Those individuals wishing to be placed on the project mailing list may do so by contacting Manya Tackett at (816) 346-0200 or ManyaT@kcata.org.

II. Description of the Study Area and Project's Purpose and Need

The study area extends from approximately the intersection of I-29 with North Oak Trafficway and US-169 in the northern portion of Kansas City, Missouri south through the City of North Kansas City, across the Missouri River and into downtown Kansas City, Missouri and continuing south to the Country Club Plaza and Prospect Avenue areas in Kansas City, Missouri. The corridor is in the center of the metropolitan region and includes Kansas City's most concentrated employment and residential areas and many of the region's significant institutional and cultural attractions, including the North Kansas City business district, downtown Central Business District, Crown Center, Country Club Plaza, Penn Valley Park, and Union Station. Existing transit service in the portion of the corridor south of the Missouri River includes both regular bus routes and the MAX bus rapid transit (BRT) line. North of the Missouri River, only limited bus service is available and there are limited transit connections across the river.

Mobility is restricted due to the multiple employment and activity concentrations spread throughout the corridor, limited mobility connections over the Missouri River, and difficulty connecting lower income areas on the east side of Kansas City with the disbursed employment centers in the corridor. The primary purpose of an investment in transit in the North/South Corridor is to provide improved transit connections between the disbursed employment and activity centers, connect residential concentrations particularly low income centers on the east side to these centers, improve mobility and connections between the north and south parts of Kansas City that are separated by the Missouri River, promote desirable development along a fixed guideway in the center of the region and preserve the city center's economic competitiveness with fringe areas.

The growing mobility challenges, coupled with limited opportunity for highway capacity expansion, make an investment in expanding existing transit service and extending transit into new markets throughout the corridor a potentially promising solution.

The Study Area includes a substantial amount of the city's low income and minority areas. As employment and activity centers disperse, lower income residents without ready access to automobiles have reduced access to employment opportunities. A high capacity transit investment would enhance access to, and retain employment opportunities in the study area.

In addition to the employment concentrations, a transit investment in the North/South corridor offers a unique opportunity to provide seamless access to some of the city's premier cultural attractions in the corridor, including River Market, Crown Center, Union Station, Country Club Plaza and the University of Missouri-Kansas City. A high capacity, user friendly transit system would be attractive to visitors and increase accessibility to cultural and recreation centers to a wider range of patrons.

III. Alternatives

In November 2006, the voters of Kansas City approved a ballot initiative that provided a funding mechanism and specified in detail a light rail line in Kansas City. In November 2007, the City Council of Kansas City, Missouri, repealed that ballot initiative and committed the City to continued work with KCATA to consider transit alternatives, including rail options, and identify reasonable transit improvements for the corridor.

Phase I of this work included a technical review of the November 2006 initiative and the early identification and screening of conceptual alternatives; it has been completed. Phase II is the preparation of an AA/DEIS that will evaluate the Future No Build, Transportation System Management (TSM), and Build alternatives described herein, and any additional reasonable alternatives that emerge from the scoping process.

The Future No Build Alternative will include existing transportation facilities and services and committed and funded transportation services, facilities, and system management improvements. These are included in the metropolitan transportation plan of the Mid-America Regional Council (MARC).

The Transportation System Management (TSM) Alternative will include operational and low-cost capital investments to the existing transit services in the corridor that go beyond the Future No Build in attempting to address the purpose and need for transit improvements in the corridor. The TSM alternative will include consideration of both improvements in regular bus service and extensions of the MAX BRT service.

The Build Alternatives will consist of street-running rail alternatives, including but not limited to the Citizens' Task Force November 2007 recommendation of a 12-mile light rail or streetcar line starting north of the Missouri River and extending south of the river to the Country Club Plaza area with an eastward line to Prospect Avenue. Additional reasonable alternatives emerging from the scoping process, if any, will also be considered. An information packet including the Citizens' Task Force recommendations and an initial purpose and need statement are available from KCATA and are posted on the project Web site.

IV. Potential Impacts for Analysis

The EIS will evaluate the impacts of all reasonable alternatives emerging from the scoping process. The project team anticipates that issues of particular focus will include land use and economic development impacts and benefits, transit, parking and traffic operations impacts, service to environmental justice populations, cultural resource impacts and impacts associated with a potentially new Missouri River crossing.

The EIS will take into account both short-term construction-related impacts and long-term impacts associated with operation of the transit system. The EIS will identify measures to avoid or mitigate adverse environmental and community impacts.

To ensure that all significant issues related to this proposed action are identified and addressed, comments and suggestions are invited from all interested parties on the impact areas to be studied and the methodologies. Comments and questions should be directed to KCATA as noted in the ADDRESSES section above.

V. FTA Procedures

KCATA is seeking FTA financial assistance provided by 49 United States Code (U.S.C.) § 5309 to construct the proposed project and will, therefore, be subject to the regulation at 49 Code of Federal Regulations (CFR) part 611 related to such New Starts projects. The New Starts regulation requires that an Alternatives Analysis be conducted to support a local decision on the preferred alternative that is then incorporated into the official metropolitan transportation plan adopted by MARC. KCATA and FTA propose to perform the Alternatives Analysis (AA) and preparation of the draft EIS together and produce an AA/DEIS document. The AA/DEIS will be distributed for public and agency review and a public hearing will be held. KCATA and MARC will select a locally preferred alternative based on the AA/DEIS and the public and agency comments received. Following selection of the locally preferred alternative and its adoption by MARC into the transportation plan, KCATA will seek FTA approval to initiate preliminary engineering (PE) of that alternative. The NEPA review will be completed during PE with publication of the final EIS.

The EIS will be prepared in accordance with the NEPA implementing regulations issued by the Council on Environmental Quality (40 CFR parts 1500-1508) and with the FTA/Federal Highway Administration regulations “Environmental Impact and Related Procedures” (23 CFR part 771). In accordance with 23 CFR 771.105(a) and 771.133, KCATA and FTA will comply with all Federal environmental laws, regulations, and executive orders applicable to the proposed project to the maximum extent possible during the environmental review process. These requirements include, but are not limited to, the environmental and public hearing provisions of Federal transit laws (49 U.S.C. 5323(b) and 5324(b)); the project-level air quality conformity regulation of the U.S. Environmental Protection Agency (EPA) (40 CFR part 93); the section 404(b)(1) guidelines of EPA (40 CFR part 230); the regulation implementing section 106 of the National Historic Preservation Act (36 CFR part 800); the regulation implementing section 7 of the Endangered Species Act (50 CFR part 402); section 4(f) of the Department of Transportation Act (23 CFR 771.135); and Executive Orders 12898 on environmental justice, 11988 on floodplain management, and 11990 on protection of wetlands.

Mokhtee Ahmad,
Regional Administrator.

[FR Doc. E8-1510 Filed 1-29-08; 8:45 am]

BILLING CODE 4910-57-P